SECURITIES AND EXCHANGE COMMISSION

[File No. 1-9641]

October 31, 2001.

Identix Incorporated, a Delaware corporation (“Issuer”), has filed an application with the Securities and Exchange Commission (“Commission”), pursuant to section 12(d) of the Securities Exchange Act of 1934 (“Act”) ¹ and Rule 12d2-2(d) thereunder,² to withdraw its Common Stock, $.01 par value (“Security”), from listing and registration on the American Stock Exchange LLC (“Amex”).

¹15 U.S.C. 78l(d).

²17 CFR 240.12d2-2(d).

The Issuer has stated in its application that it has met the requirements of Amex Rule 18 by complying with all applicable laws in effect in the state of Delaware, in which it was incorporated, and with the Amex's rules governing an issuer's voluntary withdrawal of a security from listing and registration. the Issuer's application relates solely to the Security's withdrawal from listing on the Amex and from registration under section 12(b) of the Act ³ and shall not affect its obligation to be registered under section 12(g) of the Act.⁴

³15 U.S.C. 78l(b).

⁴15 U.S.C. 78l(g).

On May 18, 2001, the Board of Directors of the Issuer approved resolutions to withdraw the Issuer's Security from listing on the Amex and to trade it on the Nasdaq/NMS. The Issuer stated in its application that trading in the Security on the Amex will cease on October 29, 2001, and trading in the Security is expected to being on the Nasdaq/NMS at the opening of business on Monday, October 29, 2001. In making the decision to withdraw, the Issuer states that the Nasdaq/NMS has emerged as the predominate market for technology companies and believes the interest of the shareholders will benefit by trading on the Nasdaq/NMS.

Any interested person may, on or before November 26, 2001 submit by letter to the Secretary of the Securities and Exchange Commission, 450 Fifth Street, NW., Washington, DC 20549-0609, facts bearing upon whether the application has been made in accordance with the rules of the Amex and what terms, if any, should be imposed by the Commission for the protection of investors. The Commission, based on the information submitted to it, will issue an order granting the application after the date mentioned above, unless the Commission determines to order a hearing on the matter.

⁵ 17 CFR 200.30-3(a)(7).

For the Commission, by the Division of Market Regulation, pursuant to delegated authority.⁵
Jonathan G. Katz,
Secretary.

[FR Doc. 01-27789 Filed 11-5-01; 8:45 am]

BILLING CODE 8010-01-M